DEPARTMENT OF TRANSPORTATION

Coast Guard

[USCG-2002-11893]

Review of Boating Safety Regulations

AGENCY: Coast Guard, DOT.

ACTION: Request for comments.

SUMMARY: The Coast Guard is conducting a comprehensive review of current boating safety regulations in three stages. These stages correspond with sequential meetings of the National Boating Safety Advisory Council (NBSAC). This notice requests comments for the second stage, involving manufacturer requirements to prevent drownings. We will provide NBSAC members with a summary of the comments before the October 2002 meeting and will consider all relevant public comments and NBSAC recommendations in determining which regulations, if any, should be changed.

DATES: Comments and related material for the second stage of the review must reach the Docket Management Facility on or before May 28, 2002.

ADDRESSES: To make sure that your comments and related material are not entered more than once in the docket, please submit them by only one of the following means:

(1) By mail to the Docket Management Facility, (USCG-2002-11893), U.S. Department of Transportation, room PL-401, 400 Seventh Street SW, Washington, DC 20590-0001.

(2) By delivery to room PL-401 on the Plaza level of the Nassif Building, 400 Seventh Street SW, Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this preamble as being available in the docket, will become part of this docket and will be available for inspection or copying at room PL-401 on the Plaza level of the Nassif Building, 400 Seventh Street SW, Washington, DC, between 9 a.m. and 5 p.m., Monday through Friday, except Federal holidays. You may also find this docket on the Internet at http://dms.dot.gov. You may obtain a copy of this notice by calling the U.S. Coast Guard Infoline at 1-800-368-5647, or read it on the Internet, at the Web Site for the Office of Boating Safety, at http://www.uscgboating.org or at http://dms.dot.gov.

FOR FURTHER INFORMATION CONTACT: If you have questions on this notice, contact Carlton Perry, Project Manager, Office of Boating Safety, U.S. Coast Guard, by telephone at 202-267-0979 or by e-mail at cperry@comdt.uscg.mil. If you have questions on viewing or submitting material to the docket, call Dorothy Beard, Chief, Dockets, Department of Transportation, telephone 202-366-5149.

SUPPLEMENTARY INFORMATION:

Background and Purpose

NBSAC is an advisory committee created under 46 U.S.C. 13110(a). It advises the Coast Guard on substantive matters of boating safety. Its 21 members come from 3 segments of the boating community: the boating industry; State officials on boating safety; and representatives of national recreational boating organizations and the general public. NBSAC meets twice a year, in the spring and fall. The meetings are open to the public. Under 46 U.S.C. 4302 (c)(4),the Coast Guard must consult NBSAC in the formulation of boating safety regulations.

Past Comprehensive Reviews

In 1981, 1986, 1992, and 1997, we conducted comprehensive reviews of our boating safety regulations in conjunction with a single NBSAC meeting. We asked NBSAC to determine whether the regulations were still necessary, beneficial, cost-effective, and consistent with current technology. These periodic reviews led NBSAC to make numerous recommendations to improve and update specific provisions in the regulations.

Current Comprehensive Review

We are conducting this review in three stages at sequential NBSAC meetings. We published the first notice announcing in the Federal Register on August 30, 2001 [66 FR 45791], stating that NBSAC would review regulations of the first stage in April 2002. We will publish notices in the future, requesting comments for the remaining stage, announcing the specific date of the meeting. Each stage will evaluate current boating safety regulations, but will not include any rules under development.

The first review stage includes administrative requirements for manufacturers and importers of recreational vessels (33 CFR part 179 and part 181, subparts B and C) and fire and explosion prevention requirements for manufacturers and importers of recreational vessels (33 CFR part 183, subparts I, J, and K). NBSAC will review these regulations and comments at its April 2002 meeting.

The second review stage includes requirements for manufacturers and importers of recreational vessels to prevent drownings (33 CFR part 183, subparts B, C, D, F, G, H, and L). NBSAC will review these regulations and comments at its October 2002 meeting.

The third review stage includes requirements for operators (33 CFR parts 95, 100, 173, 174, 175, 177 and 46 CFR part 25, subparts 25.30, 25.35 and 25.40, and part 58, subparts 58.03 and 58.10). NBSAC will review these regulations and comments at its April 2003 meeting.

You may find copies of the boating safety regulations at any public library that carries the United States Code of Federal Regulations. You may buy them from the Superintendent, Government Printing Office, telephone: 202-512-2250; facsimile: 202-512-1800. You may also access them on the Internet at URL address http://www.gpo.gov/nara/cfr.

Request for Comments

We encourage interested persons from all sectors of the boating community to participate in this second regulatory review stage by submitting comments and related material regarding any changes to the current boating safety regulations, including elimination or revocation of any requirements. If you submit comments, please include your name and address, identify the docket number for this notice (USCG-2002-11893) and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

We are especially interested in responses to the following questions:

• Need—Is there still a need for the regulation? Is the problem that the regulation was originally intended to solve still a problem?

• Technical Accuracy—Has the regulation kept pace with the technological, economic, environmental, or other relevant conditions? Would any particular changes make it more effective in achieving its intended goal?

• Cost/Benefit—What are the costs, or other burdens or adverse effects, including impacts on use of energy, of the regulation? What are the benefits of the regulation in terms of personal safety or other values? Do the benefits outweigh the costs?

• Problems—Are there any problems or complaints in understanding or complying with the regulation?

• Alternative—Are there any nonregulatory ways to achieve the goal of the regulation at a lower cost, lower burden, or adverse effect?

We will summarize all comments received in response to this request during the comment period and will provide a copy of the summary to the NBSAC members for their consideration before the October 2002 meeting. We will consider all relevant comments in the formulation of any changes to the boating safety regulations that may result from this review stage.

Dated: March 20, 2002.
Kenneth T. Venuto,
Rear Admiral, Coast Guard, Director of Operations Policy.

[FR Doc. 02-7234 Filed 3-25-02; 8:45 am]

BILLING CODE 4910-15-P